SOCIAL SECURITY ADMINISTRATION

[Docket No. SSA-2012-0018]

Reinstate Index to Chapter III in 20 CFR

AGENCY: Social Security Administration.

ACTION: Notice; correction.

SUMMARY: The Social Security Administration published a document in the Federal Register of March 27, 2012, about reinstating an Index to Chapter III in Title 20 of the Code of Federal Regulations. The document contains a misprinted Web site link.

FOR FURTHER INFORMATION CONTACT: Martin Sussman, Social Security Administration, Office of Regulations, 6401 Security Boulevard, Baltimore, MD 21235-6401, (410) 965-1767. For information on eligibility or filing for benefits, call our national toll-free number, 1-800-772-1213 or TTY 1-800-325-0778, or visit our Internet site, Social Security Online, at http://www.socialsecurity.gov.

Correction

In the Federal Register of March 27, 2012, in FR Doc. 2012-7182, on page 18290, in the third column, correct the second paragraph under SUPPLEMENTARY INFORMATION to read:

You may also find a listing of Acquiescence Rulings on our Web site at http://www.socialsecurity.gov/OP_Home/rulings/rulfind1.html.

Dated: March 27, 2012.
Martin Sussman,
Senior Advisor for Regulations, SSA.

[FR Doc. 2012-7702 Filed 3-29-12; 8:45 am]

BILLING CODE 4191-02-P